DEPARTMENT OF HOUSING AND URBAN DEVELOPMENT

[Docket No. FR-5915-N-11]

60-Day Notice of Proposed Information Collection: Family Options Study: Long-Term Tracking

AGENCY: Office of Policy Development & Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 25, 2016.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone (202) 402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone (202) 402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Family Options Study: Long-Term Tracking.

OMB Approval Number: 2528-0259.

Type of Request: Revision of currently approved collection.

Form Number: N/A.

Description of the need for the information and proposed use: The purpose of this proposed information collection is to continue tracking the families that enrolled in the U.S. Department of Housing and Urban Development's (HUD) Family Options Study between September 2010 and January 2012. The Family Options Study is a multi-site experiment designed to test the impacts of different housing and services interventions on homeless families in five key domains: Housing stability, family preservation, adult well-being, child well-being, and self-sufficiency. Families who enrolled in the Family Options Study were actively tracked for a minimum of three years after their enrollment into the study; the last outreach to families took place between March 2014 and March 2015. Both the design and the scale of the study provides a strong basis for conclusions about the relative impacts of the interventions over time; both the short-term (20 month) and long-term (37-month) impacts from this study yielded powerful evidence regarding the impact of a non-time-limited housing subsidy. It is possible, though, that some effects of the various interventions might take longer to emerge, particularly for child well-being. Therefore, HUD wishes to maintain contact with the sample of families in order to observe the longer-term effects of the interventions in a limited set of measures, and to assess the feasibility of an additional round of data collection in the future.

Information collection | Number of respondents | Frequency of response | Responses per annum | Burden hour per response | Annual burden hours | Hourly cost per response | Annual cost
Informed Consent | 2,271 | 1 | 2,271 | .17 hours (10 minutes) | 378.5 | $10.15 | $3,842
Tracking Interview | 2,271 | 1 | 2,271 | .25 hours (15 minutes) | 568 | 10.15 | 5,762
Total |  |  |  |  | 946.5 |  | 9,604

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapter 35.

Dated: September 12, 2016.
Katherine M. O'Regan,
Assistant Secretary, Office of Policy Development and Research.

[FR Doc. 2016-23018 Filed 9-23-16; 8:45 am]

BILLING CODE 4210-67-P